DEPARTMENT OF THE INTERIOR

National Park Service

Notice of Availability of the Final Environmental Impact Statement for the Selma to Montgomery National Historic Trail Comprehensive Management Plan

SUMMARY: Pursuant to section 102(2)(C) of the National Environmental Policy Act of 1969 the National Park Service announces the availability of the Final Environmental Impact Statement (EIS) for the Selma to Montgomery National Historic Trail Comprehensive Management Plan. The authority for publishing this notice is contained in 40 CFR 1506.6.

The document provides a framework for the management, use, and development of the trail by the National Park Service and its partners over the next 15 to 20 years. Beginning at Brown Chapel AME Church in Selma, Alabama, the trail follows the route of the March 1965 Selma to Montgomery voting rights march, traveling through Lowndes County along U.S. Highway 80, and ending at the Alabama State Capitol in Montgomery. The document describes four management alternatives for consideration and analyzes the environmental impacts of those alternatives. These alternatives, including the preferred Alternative C, were presented in the draft EIS.

DATES: The National Park Service will execute a Record of Decision (ROD) no sooner than 30 days following publication of the Environmental Protection Agency's notice of availability in the Federal Register.

ADDRESSES: Copies of the Final EIS are available by contacting John Barrett, National Park Service, 100 Alabama St., SW., Atlanta, GA 30303.

FOR FURTHER INFORMATION CONTACT: John Barrett, 404-562-3124, extension 637.

SUPPLEMENTARY INFORMATION: There have been no substantive changes to the alternatives as described in the draft EIS and Alternative C remains the preferred alternative.

The responsible official for this Environmental Impact Statement is Patricia A. Hooks, Regional Director, Southeast Region, National Park Service, 100 Alabama Street SW., 1924 Building, Atlanta, Georgia 30303.

Dated: May 11, 2005.
Patricia A. Hooks,
Regional Director, Southeast Region.

[FR Doc. 05-12214 Filed 6-20-05; 8:45 am]

BILLING CODE 4312-52-P